DEPARTMENT OF VETERANS AFFAIRS

Notice of Extension of Public Comment Period for Environmental Impact Statement for the San Francisco Veterans Affairs Medical Center (SFVAMC) Long Range Development Plan (LRDP)

AGENCY: Department of Veterans Affairs (VA).

ACTION: Notice of Extension of Comment Period.

SUMMARY: The Department of Veterans Affairs (VA) is extending the public comment period for the Environmental Impact Statement for the San Francisco Veterans Affairs Medical Center (SFVAMC) Long Range Development Plan (LRDP). VA published a notice in the Federal Register on August 17, 2012 (77 FR 49865), that provided for a public comment period ending on October 16, 2012. This notice extends the public comment period to October 31, 2012.

DATES: Several individuals representing federal and community organizations have requested an extension of the public comment period. The Agency has decided to act in accordance with these requests; therefore, comments on the Draft Environmental Impact Statement (EIS) for the SFVAMC LRDP will now be accepted through October 31, 2012. Comments received or postmarked after October 31, 2012 will be considered to the extent practicable.

ADDRESSES: Submit written comments on the SFVAMC LRDP Draft EIS through www.regulations.gov. Please refer to: “SFVAMC LRDP Draft EIS” in any correspondence.

FOR FURTHER INFORMATION CONTACT: Chief Engineer, Engineering Service (138), San Francisco Veterans Affairs Medical Center, 4150 Clement Street, San Francisco, CA 94121 or by telephone, (415) 221-4810, extension 2009. The SFVAMC LRDP and Draft EIS are available for viewing on the SFVAMC Web site: http://www.sanfrancisco.va.gov/planning.

Dated: October 11, 2012.
Robert C. McFetridge,
Director, Regulation Policy and Management (02REG), Office of the General Counsel.

[FR Doc. 2012-25409 Filed 10-15-12; 8:45 am]

BILLING CODE 8320-01-P